DEPARTMENT OF COMMERCE

National Oceanic and Atmospheric Administration

50 CFR Part 300

[Docket No. 230331-0089; RTID 0648-XD229]

Pacific Halibut Fisheries of the West Coast; 2023 Catch Sharing Plan; Automatic Action

AGENCY: National Marine Fisheries Service (NMFS), National Oceanic and Atmospheric Administration (NOAA), Commerce.

ACTION: Temporary rule; closure.

SUMMARY: NMFS announces closure of the Pacific halibut recreational fishery in the California Coast subarea of the International Pacific Halibut Commission's regulatory Area 2A. The California Coast subarea will close on August 4, 2023 at 11:59 p.m. This action is intended to conserve Pacific halibut.

DATES: Effective August 4, 2023, at 11:59 p.m., through November 15, 2023.

FOR FURTHER INFORMATION CONTACT: Heather Fitch, 360-320-6549, heather.fitch@noaa.gov.

SUPPLEMENTARY INFORMATION: On April 11, 2023, NMFS published a final rule approving changes to the Pacific halibut Area 2A Catch Sharing Plan and implementing recreational (sport) management measures for the 2023 Area 2A recreational fisheries (88 FR 21503), as authorized by the Northern Pacific Halibut Act of 1982 (16 U.S.C. 773-773(k)). The Pacific Fishery Management Council (Council) 2023 Catch Sharing Plan provides a recommended framework for NMFS' annual management measures and subarea allocations based on the 2023 Area 2A Pacific halibut catch limit of 1,520,000 pounds (lb) (689 metric tons (mt)) set by the International Pacific Halibut Commission (IPHC). The Area 2A catch limit and recreational fishery allocations were adopted by the IPHC and were published in the Federal Register on March 7, 2023 (88 FR 14066) after acceptance by the Secretary of State, with concurrence from the Secretary of Commerce, in accordance with 50 CFR 300.62. The Area 2A Pacific halibut management measures include recreational fishery season dates, bag limits, and subarea allocations. Federal regulations at 50 CFR 300.63(c)(3) state that once NMFS has determined an area or subarea has attained or is projected to attain its area or subarea allocation, NMFS will take automatic action to close the fishery and that such closures will be determined without prior notice or opportunity to comment.

The final rule (88 FR 21503, April 11, 2023) opened the California Coast subarea May 1 through November 15, or until the subarea allocation is estimated to have been taken and the season is therefore closed, whichever is earlier. The California Coast subarea allocation is projected to be attained on August 4, 2023; therefore, the subarea will close on that date. Notice of the subarea closure will also be announced on the NMFS hotline at 206-526-6667 or 800-662-9825.

Weekly catch monitoring reports for the recreational fisheries in Washington, Oregon, and California are available on their respective state Fish and Wildlife agency websites. NMFS and the IPHC will continue to monitor recreational catches in open subareas via state sampling procedures until NMFS has determined there is not sufficient allocation for another full day of fishing, and the area is closed by the IPHC, or the season closes on September 30 in Washington and the Columbia River subarea or October 31 in Oregon, whichever is earlier.

Automatic Action

Description of the action: This automatic action provides notice of closure for the recreational fishery in the California Coast subarea, effective Friday, August 4, 2023 at 11:59 p.m.

Reason for the action: The purpose of this action is to close the California Coast subarea to avoid exceeding the subarea allocation. As of July 31, anglers in the subarea have harvested 37,429 lb (16.98 mt) from an allocation of 39,520 lb (17.93 mt), leaving 2,091 lb (0.95 mt) remaining. Weekly catch amounts have averaged 2,674 lb (1.21 mt). Therefore, NMFS estimates that the subarea allocation will be attained by August 4, 2023, and the subarea is therefore closed on that date.

Classification

NMFS issues this action pursuant to the Northern Pacific Halibut Act of 1982. This action is taken under the regulatory authority at 50 CFR 300.63(c)(3), and is exempt from review under Executive Order 12866.

Pursuant to 5 U.S.C. 553(b)(3)(B), there is good cause to waive prior notice and an opportunity for public comment on this action, as notice and comment would be impracticable and contrary to the public interest. The California Department of Fish and Wildlife provided updated landings data to NMFS on July 31, 2023, showing that through this date, fishery participants in the recreational fishery off of California had caught 95 percent of the California Coast subarea allocation. NMFS uses weekly catch rates to project when subarea allocations will be attained. This action should be implemented as soon as possible to provide sufficient notice to fishery participants of the subarea closure date. As this action closes the subarea on August 4, 2023, implementing this action through proposed and final rulemaking would risk exceeding the subarea allocation. Implementation of this rulemaking in a timely manner is necessary so that planning for the subarea closure can take place, and for business and personal decision making by the regulated public impacted by this action, which includes recreational charter fishing operations, associated port businesses, and private anglers who do not live near the coastal access points for this fishery, among others. To ensure the regulated public is fully aware of this action, notice of this regulatory action will also be provided to anglers through a telephone hotline, news release, and by the relevant state fish and wildlife agencies. No aspect of this action is controversial, and actions of this nature were anticipated in regulations at 50 CFR 300.63(c)(3).

For the reasons discussed above, there is also good cause under 5 U.S.C. 553(d)(3) to waive the 30-day delay in effective date and make this action effective August 4, 2023, as a delay in effectiveness of this action would risk exceeding the subarea allocation.

Authority: 16 U.S.C. 773-773k.

Dated: August 3, 2023.
Jennifer M. Wallace,
Acting Director, Office of Sustainable Fisheries, National Marine Fisheries Service.

[FR Doc. 2023-16958 Filed 8-3-23; 4:15 pm]

BILLING CODE 3510-22-P